DEPARTMENT OF TRANSPORTATION

Federal Aviation Administration

[Docket No. FAA-2001-111229]

Firearms, Less-Than-Lethal Weapons, and Emergency Services on Commercial Air Flights

ACTION: Request for comments.

SUMMARY: The FAA is requesting comments on issues related to pilots carrying firearms into the cockpit and flight deck crewmembers carrying less-than-lethal weapons on aircraft providing air transportation or intrastate air transportation. We are also requesting comments on issues related to provision of emergency services on commercial air flights during emergencies by law enforcement officers, firefighters, and emergency medical technicians. This action is part of an effort to develop recommendations for possible future action by the Department of Transportation.

DATES: Send you comments to reach us on or before February 14, 2002.

ADDRESSES: Mail your comments to—Public Docket Office, Department of Transportation, 400 Seventh Street, SW., Room PL-401, Washington, DC 20590-0001.

Or send your comments through the Internet to— http://dms.dot.gov.

FOR FURTHER INFORMATION CONTACT: Kent Stephens, Manager, Air Carrier Operations Branch, AFS-220, Air Transportation Division, Flight Standards Service, Federal Aviation Administration, 800 Independence Avenue, SW., Washington, DC 20591; telephone (202) 267-9518.

SUPPLEMENTARY INFORMATION:

Your Comments Are Welcome

We invite your comments on the issues described in this notice. The most useful comments are those that are specific and related to issues raised by the notice. Factual information that supports your ideas and suggestions is extremely helpful in evaluating the issues and determining what future actions we should undertake.

To ensure consideration, you must identify the Rules Docket number in your comments, and you must submit comments to one of the addresses specified under the ADDRESSES section of this preamble. We will consider all communications received on or before the closing date for comments. All comments submitted will be available, both before and after the closing date for comments, in the Rules Docket for examination by interested persons. We will file in the Rules Docket a report that summarizes each public contact related to the substance of this notice.

You may review the public docket containing comments on this notice in person in the Dockets Office between 9 a.m. and 5 p.m., Monday through Friday, except Federal holidays. The Dockets Office is on the plaza level of the Nassif Building at the Department of Transportation at the address specified in the ADDRESSES section. Also, you may review the docket on the Internet at http://dms.dot.gov.

If you want us to acknowledge receipt of your comments submitted in response to this notice, you must include with your comments a self-addressed, stamped postcard on which you identify the Rules Docket number of this notice. We will date stamp the postcard and return it to you.

Availability of Documents

You can get an electronic copy of this notice using the Internet through FAA's web page at http://www.faa.gov/avr/arm/nprm/nprm.htm or through the Federal Register's web page at http://www.access.gpo.gov/su_docs/aces/aces140.htm

You can get a paper copy by submitting a request to the Federal Aviation Administration, Office of Rulemaking, ARM-1, 800 Independence Avenue SW., Washington, DC 20591, or by calling (202) 267-9680. Make sure to identify the docket number of this rulemaking.

Background

As a result of the events of September 11, 2001, Congress passed and the President signed the Aviation and Transportation Security Act (ATSA), a comprehensive measure designed to protect the security of the Nation's air transportation system. See Pub. L. 107-71, 115 Stat. 597, November 19, 2001. The Department of Transportation is this notice is seeking public comment to assist it in developing recommendations for possible future actions to implement the following three sections of ASTA.

Sec. 126 of ATSA amends section 44903 of Title 49 of the United States Code to provide in part that the Secretary of Transportation, after receiving recommendations from the National Institute of Justice, may authorize members of flight deck crews on aircraft providing air transportation or intrastate air transportation to carry a less-than-lethal weapon. If the Secretary grants authority to carry a less-than-lethal weapon, the Secretary must—

• Prescribe rules requiring that any such crew member be trained in the proper use of the weapon, and

• Prescribe guidelines setting forth the circumstances under which such weapons may be used.

Sec. 128 of ATSA provides that the pilot of a passenger aircraft operated by an air carrier in air transportation or intrastate air transportation is authorized to carry a firearm into the cockpit if—

• The Under Secretary for Transportation Security approves;

• The air carrier approves;

• The firearm is approved by the Under Secretary; and

• The pilot has received proper training for the use of the firearm, as determined by the Under Secretary.

Sect. 131 of ATSA, in part, provides that the Under Secretary for Transportation Security must carry out a program to permit law enforcement officers, firefighters, and emergency medical technicians to provide emergency services on commercial air flights during emergencies. To carry out the program, the Under Secretary for Transportation Security must establish requirements for qualifications and training of providers of emergency services. If one of these individuals meets such qualifications and training requirements, ASTA provides that he or she may not be held liable for damages.

As noted above, he FAA plans to develop a set of recommendations to the Department of Transportation for carrying out these portions of ATSA. As a preliminary step, we are asking for public comment on a number of issues that we have identified as potentially being addressed in the recommendations. We plan to consider any comments we receive in response to this request for comments in developing specific recommendations. If the Department of Transportation conducts rulemaking on these issues, there will be another round of public comment. We invite the public to send us information and comments relating to the following issues:

1. Whether pilots and other flight crew members should carry firearms of less-than-lethal weapons, and if so, whether it should be on a voluntary basis;

2. Whether and how the weapons should be stored on the aircraft or carried on board;

3. The types and numbers of less-than-lethal weapons that should be carried on aircraft for use by qualified flight deck crew members;

4. The types of restraining devices or other kinds of equipment that should be on aircraft;

5. The types and numbers of firearms that should be carried on aircraft for use by qualified pilots and the types of ammunition;

6. The amount and type of weapons training that we should require, including whether there should be initial and recurrent training.

7. How the less-than-lethal weapons and firearms should be carried, stored, maintained (if necessary), and accessed on the aircraft.

8. What types of aircraft modifications we should require when aircraft are equipped with less-than-lethal weapons or firearms, such as modifications to ventilation or avionics systems;

9. Whether the qualifications for using less-than-lethal weapons or firearms should be integrated into the existing systems for establishing and maintaining airman qualifications, such as pilot certificates and ratings;

10. The circumstances under which less-than-lethal weapons may be used;

11. How to identify individuals who are willing to provide emergency services on commercial flights;

12. Whether to maintain a registry of some or all of these individuals;

13, The minimum qualifications of those who would provide emergency services on commercial air flights; and

14. The type of training providers of emergency services on commercial air flights should have.

We invite the public to raise any additional issues or concerns related to these issues, including any other factors that we should consider addressing in our recommendations.

Issued in Washington, DC, on December 21, 2001.
James J. Ballough,
Director, Flight Standards Service.

[FR Doc. 01-32040 Filed 12-28-01; 8:45 am]

BILLING CODE 4910-13-M